DEPARTMENT OF HEALTH AND HUMAN SERVICES

Centers for Medicare & Medicaid Services

[CMS-1422-N]

Medicare Program; Listening Session on Hospital-Acquired Conditions in Inpatient Settings and Hospital Outpatient Healthcare-Associated Conditions in Outpatient Settings, December 18, 2008

AGENCY: Centers for Medicare & Medicaid Services (CMS) and Centers for Disease Control and Prevention (CDC), HHS.

ACTION: Notice of meeting.

SUMMARY: This notice announces a listening session being conducted by the Centers for Medicare & Medicaid Services and Centers for Disease Control and Prevention to solicit informal comments on hospital-acquired conditions (HACs) and hospital outpatient healthcare-associated conditions (HOP-HACs) in preparation for the fiscal year (FY) 2010 inpatient prospective payment systems (IPPS) and calendar year (CY) 2010 outpatient prospective payment system (OPPS) rulemaking processes. Hospitals, hospital associations, representatives of consumer purchasers, payors of health care services, and other interested parties are invited to attend and make comments in person or in writing. It will also be possible to listen to the session by teleconference. Verbal comments will be taken from telephone participants as time permits. This meeting is open to the public, but registration is required. Further information regarding this listening session will be posted on the HAC section of the CMS Web site at http://www.cms.hhs.gov/HospitalAcqCond/01_Overview.asp and the OPPS section of the CMS Web site at http://www.cms.hhs.gov/hospitaloutpatientpps/.

DATES: Meeting Date: The listening session will be held on Thursday, December 18, 2008 from 10 a.m. e.s.t. until 5 p.m. e.s.t.

Deadline for Meeting Registration and Submitting Requests for Special Accommodations Registration must be completed no later than 5 p.m. e.s.t. Thursday, December 11, 2008. Requests for special accommodations must be received no later than 5 p.m. e.s.t. Thursday, December 11, 2008.

Deadline for Submission of Written Comments or Statements: Written comments may be sent electronically to the address specified in the ADDRESSES section of this notice and must be received by 5 p.m. e.s.t. on Wednesday, December 31, 2008.

ADDRESSES: Meeting Location: The meeting will be held in the main auditorium of the Central Building of the Centers for Medicare & Medicaid Services, 7500 Security Boulevard, Baltimore, MD 21244-1850.

Registration and Special Accommodations: Persons interested in attending the meeting or listening by teleconference must register by completing the on-line registration at http://registration.intercall.com/go/cms2. Individuals who need special accommodations should contact Karen Jackson via phone on (410) 786-0079 or via e-mail at hacpoa@cms.hhs.gov.

Written Comments or Statements: Written comments may be sent by e-mail to hacpoa@cms.hhs.gov or via mail to Karen Jackson, Centers for Medicare & Medicaid Services, Mailstop C5-15-02, 7500 Security Boulevard, Baltimore, MD 21244-1850.

FOR FURTHER INFORMATION CONTACT: Karen Jackson, (410) 786-0079 or via e-mail at hacpoa@cms.hhs.gov. Press inquiries are handled through the CMS Press Office at 202-690-6145.

I. Background

Section 1886(d)(4)(D) of the Social Security Act (the Act) requires the Secretary to select, by October 1, 2007, at least two conditions that: (1) Are high cost or high volume or both; (2) result in the assignment of a case to a Medicare Severity Diagnosis-Related Group (MS-DRG) that has a higher payment when present as a secondary diagnosis; and (3) could reasonably have been prevented through the application of evidence-based guidelines.

For discharges occurring on or after October 1, 2008, hospitals will not receive additional payment for cases in which one of the selected conditions occurring during hospitalization was not present on admission. That is, the case would be paid as though the secondary diagnosis was not present. Section 1886(d)(4)(D) of the Act provides that we can revise the list of conditions from time to time, as long as it contains at least two conditions.

We have discussed the selection of hospital-acquired conditions (HAC) in the inpatient prospective payment systems (IPPS) fiscal year (FY) 2007 (71 FR 23996 and 71 FR 47870), FY 2008 (72 FR 24680 and 72 FR 47130), and FY 2009 (73 FR 23528 and 73 FR 48434) proposed and final rules, respectively. For discharges occurring on or after October 1, 2008, hospitals will not receive additional payment for cases in which one of the selected conditions occurring during hospitalization was not present on admission. That is, the case would be paid as though the secondary diagnosis was not present. Section 1886(d)(4)(D) of the Act provides that we can revise the list of conditions from time to time, as long as it contains at least two conditions. In addition, we discussed the expansion of the principles behind the hospital outpatient healthcare-associated conditions (HOP-HACs) payment provision in the outpatient prospective payment systems (OPPS) calendar year (CY) 2009 proposed rule (73 FR 41416).

II. Listening Session Format

This listening session is being held as a joint partnership between the Centers for Medicare and Medicaid Services (CMS) and the Centers for Disease Control and Prevention (CDC). The listening session will begin at 10 a.m. e.s.t. with an overview of the objectives for the session. A brief overview regarding the implementation strategy for selecting the IPPS HAC's will then be presented. Next, we will present a review of the regulatory language included in the FY 2009 IPPS final rule followed by a public comment session. There will be a lunch break from approximately 12:30 p.m. e.s.t. to 1:30 p.m. e.s.t. Following lunch, we will review the CY 2009 OPPS final rule that discussed the expansion of the principles behind the HOP-HACs payment provision to the outpatient setting. An additional public comment period will follow the afternoon presentations. The meeting will conclude by 5 p.m. e.s.t.

We note that, due to time constraints, telephone participants will be allowed to make verbal comments during the meeting as time permits. We also note that any interested party, irrespective of participation at the listening session, may submit written comments to the address listed in the ADDRESSES section by the date specified in the DATES section of this notice.

III. Registration Instructions

For security reasons, space limitations, and limited availability of teleconference lines, any persons wishing to attend this meeting or listen via teleconference must register by the date listed in the DATES section of this notice. Persons interested in attending the meeting or listening by teleconference must register by completing the on-line registration located at http://registration.intercall.com/go/cms2. The on-line registration system will generate a confirmation page to indicate the completion of your registration. Please print this page as your registration receipt.

The number of call-in lines will be limited for individuals participating in the listening session by teleconference. The call-in number will be provided upon confirmation of registration.

An audio download of the listening session will be available through the CMS Hospital-Acquired Conditions Web site at http://www.cms.hhs.gov/HospitalAcqCond/01_Overview.asp after the listening session.

IV. Security, Building, and Parking Guidelines

This meeting will be held in a Federal government building; therefore, Federal security measures are applicable. In planning your arrival time, we recommend allowing additional time to clear security. The on-site check-in for visitors will begin at 9:15 a.m. e.s.t. Please allow sufficient time to complete security checkpoints.

Security measures include the following:

• Presentation of government-issued photographic identification to the Federal Protective Service or Guard Service personnel.

• Interior and exterior inspection of vehicles (this includes engine and trunk inspection) at the entrance to the grounds. Parking permits and instructions will be issued after the vehicle inspection.

• Passing through a metal detector and inspection of items brought into the building. We note that all items brought to CMS, whether personal or for the purpose of demonstration or to support a demonstration, are subject to inspection.

We cannot assume responsibility for coordinating the receipt, transfer, transport, storage, set-up, safety, or timely arrival of any personal belongings or items used for demonstration or to support a demonstration.

Note: Individuals who are not registered in advance will not be permitted to enter the building and will be unable to attend the meeting. The public may not enter the building earlier than 45 minutes prior to the convening of the meeting.

All visitors must be escorted in areas other than the lower and first floor levels in the Central Building. Seating capacity is limited to the first 550 registrants.

Authority: Section 1886(d)(4)(D) of the Act.

Dated: October 23, 2008.
Kerry Weems,
Acting Administrator, Centers for Medicare & Medicaid Services.

[FR Doc. E8-25833 Filed 10-29-08; 8:45 am]

BILLING CODE 4120-01-P